COMMISSION ON CIVIL RIGHTS

Revised Sunshine Act Meeting Notice

AGENCY: United States Commission on Civil Rights.

ACTION: Revised briefing notice.

DATES: Date and Time: Friday, February 5, 2016; 9:00 a.m.-4:30 p.m. EST.

ADDRESSES: Place: National Place Building, 1331 Pennsylvania Ave. NW., 11th Floor, Suite 1150, Washington, DC 20245.

FOR FURTHER INFORMATION CONTACT: Gerson Gomez, Media Advisor at telephone: (202) 376-8371, TTY: (202) 376-8116 or email: publicaffairs@usccr.gov.

SUPPLEMENTARY INFORMATION: This briefing is open to the public. The public may listen on the following toll-free number: 1-888-510-1785 with passcode 2485466. Hearing-impaired persons who will attend the briefing and require the services of a sign language interpreter should contact Pamela Dunston at (202) 376-8105 or at signlanguage@usccr.gov at least seven business days before the scheduled date of the meeting.

During the briefing, Commissioners will ask questions and discuss the briefing topic with the panelists. The public may submit written comments on the topic of the briefing to the above address for 30 days after the briefing. Please direct your comments to the attention of the “Staff Director” and clearly mark “Briefing Comments Inside” on the outside of the envelope. Please note we are unable to return any comments or submitted materials. Comments may also be submitted by email to EJcomments@usccr.gov.

Topic: Completion of Briefing on Environmental Justice: Toxic Materials, Poor Economies, and the Impact to Low-Income, Minority Communities; A review of the Environmental Protection Agency's Civil Rights Enforcement of Environmental Justice in the Context of Title VI, E.O. 12,989 and the Coal Ash Rule.

Agenda

I. Introductory Remarks by Chairman: 9:00 a.m.

II. Presentations: Community Leaders/Advocates Who Have Experienced the Impacts of Environmental Injustices: 9:20 a.m.-10:05 a.m.

Speakers' Remarks

• Esther Calhoun, Alabama Resident

• Dulce Ortiz, Illinois Resident

• Rev. Leo Woodberry, South Carolina Resident

III. Panel 1: Health Issues: 10:10 a.m.-11:30 a.m.

• Barbara Gottlieb, Physicians for Social Responsibility

• Abel Russ, Environmental Integrity Project

• Dr. Yolanda Whyte, Physician

IV. Panel 2: Coal Industry Executives and Advocacy Groups: 11:40 a.m.-12:55 p.m.

• Thomas Adams, American Coal Ash Association

• Amelia Shenstone, Southern Alliance for Clean Energy

• Lisa Hallowell, Environmental Integrity Project

• James Roewer, Utilities Solid Waste Group

• Michael Smith, Arrowhead Landfill Facility

V. Panel 3: Coal Ash Activists/Advocates: 1:55p.m.-3:10 p.m.

• Andrea Delgado, Earth Justice

• Marianne Engelman-Lado, Earth Justice

• Rhiannon Fionn, Coal Ash Chronicles

• Prof. David Konisky, Indiana University

• Anthony L. Francois, Pacific Legal Foundation

VI. Panel 4: Environmental Justice Panel: 3:15 p.m.-4:30 p.m.

• David Ludder, Environmental Justice Attorney

• Roger Clegg, Center for Equal Opportunity

• Lois Gibbs, Center for Health, Environment & Justice

• Prof. Chris Timmins, Duke University

VII. Adjourn Briefing-4:30 p.m.

Dated: February 1, 2016.
David Mussatt,
Chief, Regional Programs Unit.

[FR Doc. 2016-02167 Filed 2-1-16; 4:15 pm]

BILLING CODE 6335-01-P